ENVIRONMENTAL PROTECTION AGENCY

[EPA-HQ-OW-2003-0026; FRL-9959-01-OW]

Proposed Information Collection Request; Comment Request; National Water Quality Inventory Reports (Renewal)

AGENCY: Environmental Protection Agency (EPA).

ACTION: Notice.

SUMMARY: The Environmental Protection Agency (EPA) is planning to submit an information collection request (ICR), “National Water Quality Inventory Reports (Renewal)” (EPA ICR No. 1560.11, OMB Control No. 2040-0071) to the Office of Management and Budget (OMB) for review and approval in accordance with the Paperwork Reduction Act (PRA). Before doing so, EPA is soliciting public comments on specific aspects of the proposed information collection as described below. This is a proposed 3-year extension of the ICR, which is currently approved through March 31, 2023. An Agency may not conduct or sponsor and a person is not required to respond to a collection of information unless it displays a currently valid OMB control number.

DATES: Comments must be submitted on or before September 19, 2022.

ADDRESSES: Submit your comments, referencing Docket ID No. EPA-HQ-2003-0026, online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Edward Laird, Watershed Restoration, Assessment and Protection Division (WRAPD), Office of Wetlands, Oceans, and Watersheds, Mail Code: 4503T, Environmental Protection Agency, 1200 Pennsylvania Ave., NW, Washington, DC 20460; telephone number: 202-566-2848; fax number: 202-566-1437; email address: laird.edward@epa.gov.

SUPPLEMENTARY INFORMATION: Supporting documents that explain in detail the information that the EPA will be collecting are available in the public docket for this ICR (Docket ID EPA-HQ-OW-2003-0026). The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA (44 U.S.C. 3501 et seq.), EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Clean Water Act Section 305(b) reports contain information on whether waters assessed by a state meet the state's water quality standards, and, when waters are impaired, the pollutants and potential sources affecting water quality. This information helps states and the public track progress in addressing water pollution. Section 303(d) of the Clean Water Act requires states to identify and rank waters that cannot meet water quality standards (WQS) following the implementation of technology-based controls. Under Section 303(d), states are also required to establish total maximum daily loads (TMDLs) for listed waters not meeting standards because of pollutant discharges. In developing the Section 303(d) lists, states are required to consider various sources of water quality related data and information, including the Section 305(b) state water quality reports. Section 106(e) requires that states annually update monitoring data and use it in their Section 305(b) report. Section 314(a) requires states to report on the condition of their publicly owned lakes within the Section 305(b) report.

Pursuant to the Clean Water Act and its implementing regulations, EPA reviews and approves or disapproves state Section 303(d) lists and TMDLs from 56 respondents (the 50 States, the District of Columbia, and the five Territories). Section 303(d) specifically requires states to develop lists and TMDLs, and EPA is to review and approve or disapprove the lists and the TMDLs. EPA also collects state 305(b) reports from 59 respondents (the 50 States, the District of Columbia, five Territories, and 3 River Basin Commissions).

Tribes are not required to submit Section 305(b) reports. However, to meet the needs of Tribes at all levels of development, EPA has prepared guidance that presents the basic steps a Tribe should take to collect the water quality information it needs to make effective decisions about its program, its goals, and its future directions. Tribal water quality monitoring and reporting activities are covered under the Section 106 Tribal Grants Program and are not included in the burden estimates for this ICR. In addition, ICR number 2553.02 “Treatment of Indian Tribes in a Similar Manner as States for Purposes of Section 303(d) of the Clean Water Act (Final Rule)” addresses the tribes' CWA Section 303(d) Impaired Water Listing and TMDL TAS application and 303(d) Program implementation burden, as well as EPA's burden for reviewing the tribes' applications and 303(d) Program submittals.

During the period covered by this ICR renewal, respondents will: complete their 2024 Section 305(b) reports and 2024 Section 303(d) lists; complete their 2026 Section 305(b) reports and 2026 Section 303(d) lists; transmit annual electronic updates of ambient monitoring data via the Water Quality Exchange; and continue to develop TMDLs according to their established schedules. EPA will prepare biennial updates on assessed and impaired waters for Congress and the public for the 2024 reporting cycle and for the 2026 cycle, and EPA will review 303(d) list and TMDL submissions from respondents.

The burdens of specific activities that states undertake as part of their Section 305(b) and 303(d) programs are derived from a project among EPA, states, and other interested stakeholders to develop a tool for estimating the states' resource needs for state water quality management programs. This project has developed the State Water Quality Management Workload Model (SWQMWM), which estimates and sums the workload involved in more than one hundred activities or tasks comprising a state water quality management program. Over twenty states contributed information about their activities that became the basis for the model. According to the SWQMWM, to meet Section 305(b) and 303(d) reporting requirements the states will conduct: watershed monitoring and characterization; modeling and analysis; development of Section 303(d) lists and TMDLs for public review; public outreach; formal public participation; tracking; planning; legal support; etc. In general, respondents have conducted each of these reporting and record keeping activities for past Section 305(b) and 303(d) reporting cycles and thus have staff and procedures in place to continue their Section 305(b) and 303(d) reporting programs. The burden associated with these tasks is estimated in this ICR to include the total number of TMDLs that may be submitted during the period covered by this ICR.

Form Numbers: None.

Respondents/affected entities: Entities potentially affected by this action are States, Territories and Tribes with Clean Water Act (CWA) responsibilities.

Respondent's obligation to respond: Mandatory: Integrated Water Quality Inventory Reports. (Clean Water Act Sections 305(b), 303(d), 314(a), and 106(e)).

Estimated number of respondents: 59 (total).

Frequency of response: Biennial.

Total estimated burden: 3,696,243 hours (per year). Burden is defined at 5 CFR 1320.03(b).

Total estimated cost: $243,597,191 (per year), includes $0 annualized capital or operation & maintenance costs.

Changes in Estimates: There is a decrease of 10,944 hours in the total estimated respondent burden compared with the ICR currently approved by OMB. This decrease is due to efficiencies gained from the use of EPA's modernized Assessment and Total Maximum Daily Load Tracking and Implementation System (ATTAINS) database and the integration of EPA's data and information systems to better support reporting, tracking water quality protection, and restoration actions. These efficiencies streamlined water quality assessment and reporting by reducing paper copy transactions and improving electronic data exchange.

John Goodin,
Director, Office of Wetlands, Oceans, and Watersheds.

[FR Doc. 2022-15371 Filed 7-18-22; 8:45 am]

BILLING CODE 6560-50-P